FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than December 6, 2013.

A. Federal Reserve Bank of Minneapolis (Jacqueline G. King, Community Affairs Officer) 90 Hennepin Avenue, Minneapolis, Minnesota 55480-0291:

1. Choice Financial Holdings, Inc., Grafton, North Dakota; to acquire 100 percent of the voting shares of Great Plains National Bank, Belfield, North Dakota.

In connection with this application, Applicant also has applied to acquire 51 percent of the voting shares of Great Plains National Insurance Agency, LLC, LaMoure, North Dakota, and thereby indirectly engage in general insurance agency activities in a community that has a population not exceeding 5,000, pursuant to section 225.28(b)(11)(iii)(A).

B. Federal Reserve Bank of Kansas City (Dennis Denney, Assistant Vice President) 1 Memorial Drive, Kansas City, Missouri 64198-0001:

1. Carroll County Bancshares, Inc., Carrollton, Missouri; to acquire up to 24.99 percent of the voting shares of Adams Dairy Bancshares, Inc., and thereby indirectly acquire voting shares of Adams Dairy Bank, both in Blue Springs, Missouri.

C. Federal Reserve Bank of Dallas (E. Ann Worthy, Vice President) 2200 North Pearl Street, Dallas, Texas 75201-2272:

1. FB Bancshares, Inc., Wichita Falls, Texas; to merge with Byers Bancshares, Inc., and thereby indirectly acquire First National Bank, both in Byers, Texas.

Board of Governors of the Federal Reserve System, November 6, 2013.
Michael J. Lewandowski,
Associate Secretary of the Board.

[FR Doc. 2013-26981 Filed 11-8-13; 8:45 am]

BILLING CODE 6210-01-P